DEPARTMENT OF ENERGY

Federal Energy Regulatory Commission

[Project Nos. 2698-033, 2686-032, 2602-007, and 2601-007 North Carolina]

Duke Power Company LLC; Notice of Availability of Final Environmental Assessment

July 14, 2006.

In accordance with the National Environmental Policy Act of 1969, as amended, and Federal Energy Regulatory Commission (Commission) regulations (18 CFR part 380), Commission staff reviewed the applications for new major licenses for the East and West Fork projects, a subsequent license for the Bryson Project, and the application for license surrender for the Dillsboro Project. We prepared a combined environmental assessment (EA) on the proposed actions. The East and West Fork and Dillsboro projects are located on the Tuckasegee River in Jackson County, North Carolina. The Bryson Project is located on the Oconaluftee River (a tributary to the Tuckasegee River) in Swain County, North Carolina.

In this final EA, Commission staff analyze the probable environmental effects of implementing the projects and conclude that approval of the projects, with appropriate staff-recommended environmental measures, would not constitute a major federal action significantly affecting the quality of the human environment.

Copies of the final EA are available for review in Public Reference Room 2-A of the Commission's offices at 888 First Street, NE., Washington, DC. The EA also may be viewed on the Commission's Internet Web site (http:///www.ferc.gov) using the “eLibrary” link. Additional information about the project is available from the Commission's Office of External Affairs at (202) 502-6088, or on the Commission's Web site using the eLibrary link. For assistance with eLibrary, contact FERCOnlineSupport@ferc.gov or call toll-free at (866) 208-3676; for TTY call (202) 502-8659.

For further information, please contact Carolyn Holsopple at (202) 502-6407 or at carolyn.holsopple@ferc.gov.

Magalie R. Salas,
Secretary.

[FR Doc. E6-11663 Filed 7-21-06; 8:45 am]

BILLING CODE 6717-01-P